DEPARTMENT OF COMMERCE

International Trade Administration

[A-583-831]

Stainless Steel Sheet and Strip in Coils from Taiwan: Extension of Time Limits for Preliminary Results of Antidumping Duty Administrative Review

AGENCY: Import Administration, International Trade Administration, Department of Commerce.

ACTION: Extension of time limits for the preliminary results of antidumping duty administrative review.

SUMMARY: The Department of Commerce (“the Department”) is extending the time limits for the preliminary results of the antidumping duty administrative review of stainless steel sheet and strip (“SSSS”) from Taiwan.

EFFECTIVE DATE: May 21, 2003.

FOR FURTHER INFORMATION CONTACT: Lilit Astvatsatrian, AD/CVD Enforcement Group III, Office 9, Import Administration, International Trade Administration, U.S. Department of Commerce, 14th Street and Constitution Avenue, NW., Washington, DC 20230; telephone: (202) 482-6412.

Background

On July 1, 2002, the Department published a notice of opportunity to request an administrative review of the antidumping duty order on SSSS from Taiwan. See Antidumping or Countervailing Duty Order, Finding, or Suspended Investigation; Opportunity to Request Administrative Review, 67 FR 44172 (July 1, 2002). On July 30, 2002, Yieh United Steel Corporation (“YUSCO”) and Chia Far Industrial Factory Co. Ltd. (“Chia Far”), Taiwanese producers of subject merchandise, requested that the Department conduct an administrative review of their sales of subject merchandise during the period of review (“POR”). On July 31, 2002, petitioners ¹ requested that the Department conduct an administrative review of Chia Far, YUSCO, Tung Mung Development Co., Ltd. (“Tung Mung”) and Ta Chen Stainless Pipe Co., Ltd. (“Ta Chen”). On August 27, 2002, the Department published a notice of initiation of a review of SSSS from Taiwan covering the period July 1, 2001 through June 30, 2002. See Initiation of Antidumping and Countervailing Duty Administrative Reviews and Requests for Revocation in Part, 67 FR 55000 (August 27, 2002). On March 24, 2003, the Department extended the time limit for the preliminary results of this administrative review by 90 days. See Stainless Steel Sheet and Strip in Coils from Taiwan: Extension of Time Limits for Preliminary Results of Antidumping Duty Administrative Review, 68 FR 14195 (March 24, 2003). The preliminary results of review are currently due no later than July 1, 2003.

¹ Petitioners are Allegheny Ludlum Corporation, AK Steel Corporation, Butler Armco Independent Union, J&L Specialty Steel, Inc., United States Steelworkers of America, AFL-CIO/CLC, and Zanesville Armco Independent Organization.

Extension of Time Limits for Preliminary Results

Section 751(a)(3)(A) of the Tariff Act of 1930, as amended (“the Act”) states that the administering authority shall make a preliminary determination within 245 days after the last day of the month in which occurs the anniversary of the date of publication of the order, finding, or suspension agreement for which the review under section 751(a)(1) is requested. If it is not practicable to complete the review within the foregoing time, the administering authority may extend that 245-day period to 365 days. Completion of the preliminary results within 245-day period is impracticable for the following reasons: (1) This review requires the Department to analyze YUSCO's complex affiliations and corporate relationships; (2) this review requires the Department to gather and analyze a significant amount of information pertaining to Chia Far's manufacturing costs due to new structural plant changes affecting the POR; (3) this review involves a large number of transactions and complex adjustments; and (4) this review involves examining complex relationships between the producers and their customers and suppliers.

Because it is not practicable to complete this review within the time specified under the Act, we are extending the due date for the preliminary results by an additional 30 days until July 31, 2003, in accordance with section 751(a)(3)(A) of the Act. The final results continue to be due 120 days after the publication of the preliminary results. This notice is issued and published in accordance with section 751(a)(3)(A) of the Act, and section 351.213(h)(2) of the Department's regulations.

Dated: May 14, 2003.
Barbara E. Tillman,
Acting Deputy Assistant Secretary for Import Administration, Group III.

[FR Doc. 03-12768 Filed 5-20-03; 8:45 am]

BILLING CODE 3510-DS-P